DEPARTMENT OF THE INTERIOR

Bureau of Land Management

[PO #4820000251]

Public Land Order No. 7958; Extension of Public Land Order No. 6597, as Extended; for White Mountain Petroglyphs Site, Wyoming

AGENCY: Bureau of Land Management, Interior.

ACTION: Public Land Order.

SUMMARY: This order extends the duration of the withdrawal created by Public Land Order (PLO) No. 6597, as extended by PLO No. 7621, for an additional 20-year period. PLO No. 6597, as extended, withdrew 20 acres of public land administered by the Bureau of Land Management (BLM) in Sweetwater County, Wyoming from settlement, sale, location, or entry under the general land laws, including the United States mining laws, but not from leasing under the mineral leasing laws, for 20 years, subject to valid existing rights, to protect the White Mountain Petroglyphs Site. Extension of the withdrawal is necessary to protect the Native American, cultural resource, wildlife, scenic, and educational values of, as well as the capital investment in, the White Mountain Petroglyphs Site.

DATES: This PLO takes effect on January 15, 2025.

FOR FURTHER INFORMATION CONTACT: Sarah Naranjo, Realty Specialist, at (307) 775-6189, Bureau of Land Management, Wyoming State Office, 5353 Yellowstone Rd., Cheyenne, Wyoming 82009. Individuals in the United States who are deaf, blind, hard of hearing, or have a speech disability may dial 711 (TTY, TDD, or TeleBraille) to access telecommunications relay services. Individuals outside the United States should use the relay services offered within their country to make international calls to the point-of-contact in the United States. The service is available 24 hours a day, 7 days a week, to leave a message or question with the above individual. You will receive a reply during normal business hours.

SUPPLEMENTARY INFORMATION: The extension of PLO No. 6597, as extended by PLO No. 7621, is required to continue the protection of Native American cultural resources; wildlife, scenic, and educational values; as well as the capital investment of the White Mountain Petroglyphs Site.

Order

By virtue of the authority vested in the Secretary of the Interior by Section 204 of the Federal Land Policy and Management Act of 1976, 43 U.S.C. 1714, it is ordered as follows:

1. PLO No. 6597 (50 FR 11865 (1985)), as extended by PLO No. 7621 (70 FR 1466 (2005)), which withdrew 20 acres of public land from settlement, sale, location, or entry under the general land laws, including the United States mining laws, but not from leasing under the mineral leasing laws, subject to existing rights, to protect the White Mountain Petroglyphs Site, is hereby extended for an additional 20-year period. The lands are described as follows:

Sixth Principal Meridian, Wyoming

T. 22 N., R. 105 W.,

Sec. 11, NE¼SE1¼SE¼, N½SW¼SE¼SE¼;

Sec. 12, W½NW¼SW¼SW¼.

The areas described aggregate 20 acres, according to the official plat of survey of the said lands, on file with the BLM.

2. This withdrawal will expire 20 years from the effective date of this Order unless, as a result of a review conducted prior to the expiration date pursuant to section 204(f) of the Federal Land Policy and Management Act of 1976, 43 U.S.C. 1714(f), the Secretary determines that the withdrawal shall be further extended.

(Authority: 43 U.S.C. 1714)

Robert T. Anderson,
Solicitor.

[FR Doc. 2025-00776 Filed 1-14-25; 8:45 am]

BILLING CODE 4331-26-P